COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) and service(s) to the Procurement List that will be furnished by nonprofit agencies employing persons who are blind or have other severe disabilities, and deletes product(s) and service(s) from the Procurement List previously furnished by such agencies.

DATES: Date added to and deleted from the Procurement List: March 17, 2019.

ADDRESSES: Committee for Purchase From People Who Are Blind or Severely Disabled, 1401 S. Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 4/28/2017 (82 FR 81) and 12/14/2018 (83 FR 240), the Committee for Purchase From People Who Are Blind or Severely Disabled published notices of proposed additions to the Procurement List.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s):

5180-01-563-6719—Kit, Urban Operation Tools, Squad

5180-01-631-3029—Kit, Urban Operations Tools, Platoon

Mandatory Source of Supply: Wiscraft, Inc., Milwaukee, WI

Mandatory for: 100% of the requirement of the U.S. Army

Contracting Activity: DEPT OF THE ARMY, W4GG HQ US ARMY TACOM

Service(s)

Service Type: Mailroom Operation

Mandatory for: US Air Force, Official Mail Center, Cannon AFB, Cannon AFB NM

Mandatory Source of Supply: ENMRSH, Inc., Clovis, NM

Contracting Activity: DEPT OF THE AIR FORCE, FA4855 27 SOCONS LGC

Deletions

On 11/9/2018 (83 FR 218), 11/30/2018 (83 FR 231), 12/14/2018 (83 FR 240), and 12/21/20 (83 FR 245), the Committee for Purchase From People Who Are Blind or Severely Disabled published notices of proposed deletions from the Procurement List.

After consideration of the relevant matter presented, the Committee has determined that the service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the service(s) to the Government.

3. There are no known regulatory alternatives which would accomplish the objectives of the Javits-Wagner-O'Day Act (41 U.S.C. 8501-8506) in connection with the service(s) deleted from the Procurement List.

End of Certification

Accordingly, the following service(s) are deleted from the Procurement List:

Service(s)

Service Type: Janitorial/Custodial

Mandatory for: U.S. Army Reserve Center: 5200 Wissahickon Avenue Philadelphia, PA

Mandatory Source of Supply: The Chimes, Inc., Baltimore, MD

Contracting Activity: DEPT OF THE ARMY, W40M NORTHEREGION CONTRACT OFC

Service Type: Supply Room/Motor Vehicle Service

Mandatory for: Federal Aviation Administration: Great Lakes Region Des Plaines, IL

Mandatory Source of Supply: Jewish Vocational Service and Employment Center, Chicago, IL

Contracting Activity: TRANSPORTATION, DEPARTMENT OF

Service Type: Janitorial Service

Mandatory for: USDA Natural Resources Conservation Service, Shiprock Field Office, Old P.O. Rte. 491, Shiprock, NM

Mandatory Source of Supply: Presbyterian Medical Services, Santa Fe, NM

Contracting Activity: NATURAL RESOURCES CONSERVATION SERVICE, AZ STATE OFFICE (NRCS)

Service Types: Trash Pick-up

Cleaning Services

Mandatory for: Crane Division, Naval Surface Warfare Center, Crane, IN

Mandatory Source of Supply: Orange County Rehabilitative and Developmental Services, Inc., Paoli, IN

Contracting Activity: DEPT OF THE NAVY, U S FLEET FORCES COMMAND

Service Type: Janitorial/Custodial

Mandatory for: U.S. Federal Building: 600 Broad Street, Gadsden, AL

Social Security Administration Building, 201 College Street Gadsen, AL

U.S. Federal Building and Courthouse: Maine and Watson, Centre, AL

Mandatory Source of Supply: Alabama Goodwill Industries, Inc., Birmingham, AL

Contracting Activity: PUBLIC BUILDINGS SERVICE, ACQUISITION DIVISION/SERVICES BRANCH

Service Type: Document Destruction

Mandatory for: USDA, APHIS, 100 North Sixth Street, Butler Square, Minneapolis, MN

Mandatory Source of Supply: AccessAbility, Inc., Minneapolis, MN

Contracting Activity: ANIMAL AND PLANT HEALTH INSPECTION SERVICE, USDA APHIS MRPBS

Service Type: Custodial and Grounds Maintenance Services

Mandatory for: FSS Depot, 400 Edwards Avenue, Harahan, LA

Mandatory Source of Supply: Louisiana Industries for the Disabled, Inc., Baton Rouge, LA

Contracting Activity: PUBLIC BUILDINGS SERVICE, BUILDING SERVICES TEAM

Service Type: Janitorial/Custodial

Mandatory for: U.S. Army Reserve Center: 1101 W. Central Avenue, Bldgs 104-109, 140, 141, 144 and 145, Arlington Heights, IL

Mandatory Source of Supply: Clearbrook Center, Inc., Arlington Heights, IL

Contracting Activity: DEPT OF THE ARMY, W6QM MICC FT MCCOY (RC)

Service Type: Janitorial/Custodial

Mandatory for: Norfolk Naval Base: Navy Commissary Stores, Norfolk, VA

Mandatory Source of Supply: PRIDE Industries, Roseville, CA

Contracting Activity: DEPT OF THE NAVY, U S FLEET FORCES COMMAND

Service Type: Administrative Service

Mandatory for: US Army Medical Command, Health Care Acquisition Activity, Small Business Office, JBSA Fort Sam Houston, TX

Mandatory Source of Supply: Goodwill Industries of San Antonio Contract Services, San Antonio, TX

Contracting Activity: DEPT OF THE ARMY, W40M USA MEDCOM HCAA

Service Type: Janitorial/Custodial

Mandatory for: Illinois Air National Guard: 182nd Airlift Wing 2416 South Falcom Blvd., Peoria, IL

Mandatory Source of Supply: Community Workshop and Training Center, Inc., Peoria, IL

Contracting Activity: DEPT OF THE ARMY, W7M6 USPFO ACTIVITY IL ARNG

Patricia Briscoe,
Deputy Director, Business Operations (Pricing and Information Management).

[FR Doc. 2019-02509 Filed 2-14-19; 8:45 am]

BILLING CODE 6353-01-P